DEPARTMENT OF THE TREASURY

Call for Nominations for Secretary Appointment to Treasury Tribal Advisory Committee

AGENCY: Department of the Treasury.

ACTION: Notice.

SUMMARY: This notice announces that the Designated Federal Officer of the Department of the Treasury Tribal Advisory Committee (TTAC), established pursuant to the Tribal General Welfare Exclusion Act of 2014 (TGWEA), seeks nominations on behalf of the Secretary of the Treasury (Secretary) for the appointment of one member to the TTAC. Under section 3 of the TGWEA, the TTAC was established to advise the Secretary on matters related to the taxation of Indians, training and education for Internal Revenue Service (IRS) field agents who administer and enforce internal revenue laws with respect to Indian tribes, and training and technical assistance for tribal financial officers. Nominations should describe the candidate's qualifications for TTAC membership. Submittal of an application and resume is required. This request for nominations, particularly from tribal leaders, is in furtherance of the objectives of the Presidential Memorandum of January 26, 2021 (Tribal Consultation and Strengthening Nation-to-Nation Relationships), which requires each agency to prepare and periodically update a detailed plan of action to implement the policies and directives of an Executive Order under which the Department of the Treasury consults with tribal officials in the development of Federal policies that have Tribal implications, to reinforce the United States government-to-government relationships with Indian tribes, and to reduce the imposition of unfunded mandates upon Indian tribes.

DATES: Please submit applications for appointment by the Secretary to the TTAC or the names and qualifications of individuals you would recommend for appointment to the TTAC by the Secretary before November 18, 2022.

ADDRESSES: Please send applications or recommendations to TTAC@treasury.gov, with a subject line “Treasury Tribal Advisory Committee member application or recommendation.” Self-nominations are welcome. The Department of the Treasury will accept applications for Secretarial appointments to the TTAC until November 18, 2022.

FOR FURTHER INFORMATION CONTACT: Krishna P. Vallabhaneni, Designated Federal Officer for the TTAC, by emailing TTAC@treasury.gov, or by calling (202) 622-2000 (this is not a toll-free number). Persons who have difficulty hearing or speaking may access this number via TTY by calling the toll-free Federal Relay Service at (800) 877-8339.

SUPPLEMENTARY INFORMATION:

Background

I. Description and Mandate of the TTAC

Section 3 of the TGWEA, Public Law 113-68, 128 Stat. 1883 (Sept. 26, 2014), directs the Secretary of the Treasury to establish a Tribal Advisory Committee to advise the Secretary on matters related to the taxation of Indians, the training of Internal Revenue Service field agents, and the provision of training and technical assistance to Native American financial officers.

Pursuant to Section 3 of the TGWEA and in accordance with the provisions of the Federal Advisory Committee Act (FACA), 5 U.S.C. App. 1 et seq., the TTAC was established on February 10, 2015, as the “U.S. Department of the Treasury Tribal Advisory Committee.” The TTAC's Charter provides that it shall operate under the provisions of the FACA and shall advise and report to the Secretary on:

(1) Matters related to the taxation of Indians;

(2) The establishment of training and education for internal revenue field agents who administer and enforce internal revenue laws with respect to Indian tribes of Federal Indian law and the Federal Government's unique legal treaty and trust relationship with Indian tribal governments; and

(3) The establishment of training of such internal revenue field agents, and provisions of training and technical assistance to tribal financial officers, about implementation of the TGWEA and any amendments.

Section 3(c) of the TGWEA provides that the TTAC's membership is composed of seven members in total, three members appointed by the Secretary and one member appointed by each of the following four Members of Congress: the Chairman and Ranking Member of the Committee on Ways and Means of the House of Representatives and the Chairman and Ranking Member of the Committee on Finance of the Senate.

This notice requests nominations for the appointment by the Secretary of one member to serve a term of four years. Recommendations for the four Congressional appointments to the TTAC expiring on June 20, 2023, should be directed to the offices of the four Members of Congress specified in the law, whose roles are identified above.

II. Application for TTAC Appointment

The Department of the Treasury seeks applications from individuals with experience and qualifications in the subject areas identified by the TWGEA: the taxation of Indians, IRS field agent training, and Native American financial officer training and technical assistance. TTAC member travel expenses will be reimbursed within U.S. Government guidelines. No person who is a federally-registered lobbyist may serve on the TTAC. All potential candidates must pass an IRS tax compliance check and a Federal Bureau of Investigation (FBI) background investigation.

To apply, an applicant must submit an appropriately detailed resume and a cover letter that includes a description of the applicant's reasons for applying. An applicant must state in the application materials that he or she agrees to submit to a pre-appointment IRS tax compliance check and an FBI criminal background investigation in accordance with Treasury Directive 21-03.

Dated: September 28, 2022.
Krishna P. Vallabhaneni,
Tax Legislative Counsel and Designated Federal Officer.

[FR Doc. 2022-21459 Filed 10-3-22; 8:45 am]

BILLING CODE 4810-25-P